DEPARTMENT OF COMMERCE

Foreign-Trade Zones Board

[B-11-2026]

Foreign-Trade Zone 124; Application for Subzone; ECI Gulf Coast Parts and Service, Inc.; New Iberia, Louisiana

An application has been submitted to the Foreign-Trade Zones (FTZ) Board by the Port of South Louisiana, grantee of FTZ 124, requesting subzone status for the facility of ECI Gulf Coast Parts and Service, Inc., located in New Iberia, Louisiana. The application was submitted pursuant to the provisions of the Foreign-Trade Zones Act, as amended (19 U.S.C. 81a-81u), and the regulations of the FTZ Board (15 CFR part 400). It was formally docketed on January 28, 2026.

The proposed subzone (11.87 acres) is located at 1309 Unifab Road, New Iberia, Louisiana. No authorization for production activity has been requested at this time.

In accordance with the FTZ Board's regulations, Camille Evans of the FTZ Staff is designated examiner to review the application and make recommendations to the FTZ Board.

Public comment is invited from interested parties. Submissions shall be addressed to the FTZ Board's Executive Secretary and sent to: ftz@trade.gov. The closing period for their receipt is March 11, 2026. Rebuttal comments in response to material submitted during the foregoing period may be submitted through March 26, 2026.

A copy of the application will be available for public inspection in the “Online FTZ Information Section” section of the FTZ Board's website, which is accessible via www.trade.gov/ftz.

For further information, contact Camille Evans at Camille.Evans@trade.gov.

Dated: January 28, 2026.
Elizabeth Whiteman,
Executive Secretary.

[FR Doc. 2026-01897 Filed 1-29-26; 8:45 am]

BILLING CODE 3510-DS-P